DEPARTMENT OF DEFENSE

Office of the Secretary

[Docket ID: DoD-2024-OS-0065]

U.S. Court of Appeals for the Armed Forces Proposed Rules Changes

AGENCY: Office of the Secretary, Department of Defense (DoD).

ACTION: Notice of responses to comments received on the proposed Rules of Practice and Procedure, United States Court of Appeals for the Armed Forces.

SUMMARY: This notice contains the responses to comments received on the proposed Rules of Practice and Procedure, United States Court of Appeals for the Armed Forces. Although these rules of practice and procedure fall within the Administrative Procedure Act's exemptions for notice and comment, the Department, as a matter of policy, has decided to make these changes available for public review and comment before they are implemented.

DATES: Applicable September 16, 2024.

FOR FURTHER INFORMATION CONTACT: Malcolm H. Squires, Jr., Clerk of the Court, telephone (202) 761-1448.

SUPPLEMENTARY INFORMATION:

Discussion of Comments and Changes

On June 7, 2024, the United States Court of Appeals for the Armed Forces published a notice titled U.S. Court of Appeals for the Armed Forces Proposed Rules Changes in the Federal Register (89 FR 48601). Comments were accepted for 30 days until July 8, 2024. A total of five comments were received. Please see the summarized comments and the Court's responses below.

I. Public Comments

The publication of this notice finalizes the interim final rules published on June 6. The Court, after circulating the proposed comments amongst its Rules Committee and the five active judges, has decided to adopt some comments in part and reject others.

Several comments concerned the reduction in time for amicus to file briefs. The Court has decided to accept these proposals and expand the time to file amicus briefs in support of parties to fourteen days. Similarly, after reviewing the comments, the Court has decided to expand the time to submit a waiver letter under Rule 21 to fourteen days.

Another comment was directed at the Court's student practice rule and suggested that the rules account for law students who do not attend an ABA accredited law school. After circulating the comment for review amongst the Rules Committee and the five active judges, the Court has decided not to make any changes to the proposed Rule 13A, as the rules provide that the Court may grant exceptions to any of the rules as is necessary.

II. Revisions to the Original Notice

The new Rule 21 will read:

* * * * *

(c) * * *

(2) Answer/Reply in Other Appeals. An appellee's answer to the supplement to the petition for grant of review in all other appeal cases may be filed no later than twenty-one days after the filing of such supplement (see Rule 2l(e)). As a discretionary alternative if a formal answer is waived, an appellee may file with the Clerk a short letter, within fourteen days after the filing of the appellant's supplement to the petition, setting forth one of the following alternative positions:

(i) that the United States submits a general opposition to the assigned error(s) of law and relies on its brief filed with the Court of Criminal Appeals; or (ii) that the United States does not oppose the granting of the petition (for some specific reason, such as an error involving an unsettled area of the law). An appellant may file a reply no later than seven days after the filing of the appellee' s answer or answer letter.

* * * * *

Comment: The time to submit a waiver letter was expanded to fourteen days after the filing of the appellant's supplement to the petition.

The new Rule 26 will read:

* * * * *

(d) An amicus curiae brief in support of a party must be filed no later than fourteen days after that party has filed its brief, supplement to the petition for grant of

review, petition for extraordinary relief, writ-appeal petition, or answer. If no party is supported, the amicus curiae brief must be filed no later than seven days after the filing of the brief of the appellant/petitioner. In the case of a petition for new trial, the amicus curiae must file its brief no later than fourteen days after the petitioner has filed its brief with the Court. Motions for leave to file an amicus curiae brief under Rule 26(b)(4), together with the proposed brief, must be filed within the time allowed for filing the brief.

* * * * *

Comment: The time to file amicus curiae brief in support of a party was expanded to fourteen days after the original party has filed its brief.

Dated: August 9, 2024.
Patricia L. Toppings,
OSD Federal Liaison Officer, Department of Defense.

[FR Doc. 2024-18280 Filed 8-14-24; 8:45 am]

BILLING CODE 6001-FR-P